DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Jail Diversion and Trauma Recovery—Priority to Veterans Program Evaluation—(OMB No. 0930-0277)—Revision

The Substance Abuse and Mental Health Services Administration's (SAMHSA), Center for Mental Health Services (CMHS) has implemented the Targeted Capacity Expansion Grants for Jail Diversion Programs, and the Jail Diversion and Trauma Recovery Program represents the newest cohort of grantees. The Program currently collects client outcome measures from program participants who agree to participate in the evaluation. Data collection consists of interviews conducted at baseline, 6- and 12-month intervals.

The current proposal requests:

1. Substituting CMHS NOMS items for GPRA items. At the time of the previous OMB submission, the NOMS measures were not finalized.

2. Replacing the DC trauma Screen with a new set of traumatic event questions. The new trauma questions better reflect the experiences of the target population.

3. Replacing the Colorado Symptom Index with the BASIS 24.

4. Adding questions related to military service experience at the baseline. These items will be added to capture characteristics of the target population of the new grantee cohort, veterans.

5. Adding questions on military combat experience at the six month interview only. These items will capture the types of traumatic experiences among clients with a combat history.

6. Adding questions on lifetime mental health/substance use and service use and the CAGE to the baseline. These questions will be added to capture client's history of involvement with mental health and substance abuse systems, and the four CAGE items assess alcohol dependence.

7. Adding several lifetime criminal justice questions. These questions will assess client's lifetime involvement with the criminal justice system.

8. Adding the Recovery Enhancing Environment (REE) instrument to all interviews. The REE is a consumer oriented measure of recovery, a new and important program outcome.

9. Removing the MacArthur Perceived Coercion Scale from all instruments.

10. Removing the Mental Health Statistics Improvement Program questions from follow-up interviews. (These are replaced by a similar, but shorter, NOMS scale.)

The NOMS measures that are proposed for substitution of the GPRA measures have the same administration time and do not lengthen the interview. Two of the proposed additions (the REE and the lifetime MH/SA) will add 5 minutes each and the criminal justice questions will add 3 minutes. The military service questions will add an average of 4 minutes, as not all respondents are expected to answer these questions because grantees may serve non-veteran clients. The removal of the MacArthur Coercion Instrument reduces the baseline interview by 5 minutes and removal of the MHSIP reduces the follow-up interview by 5 minutes. The net lengthening of the instrument is 12 minutes for the baseline interview, and there is no net increase in length to the 6- and 12-month interviews.

The Program also collects data on program participants from records. The revisions to these instruments are formatting in nature.

New grantees were awarded on September 30, 2008 under the Jail Diversion and Trauma Recovery Program will commence data collection efforts in FY 2009; anticipated grantees awarded on September 30, 2009 would commence data collection in FY 2010; and anticipated grantees awarded on September 30, 2010 would commence data collection in FY 2011. The following tables summarize the burden for the data collection.

CY 2009 Annual Reporting Burden
Data collection activity | Number of respondents | Responses per respondent | Total responses | Average hours per response | Total hour burden
Client Interviews for FY2008: Revised Instrument
Baseline (at enrollment) | 510 | 1 | 510 | 0.95 | 485
6 months | 408 | 1 | 408 | 0.92 | 375
12 months | 102 | 1 | 102 | 0.92 | 94
Sub Total | 1,020 |  | 1,020 |  | 954
Client Interviews for FY2007 Grantees: Current Instrument
Baseline (at enrollment) ¹ | 0 | 1 | 0 | 0.83 | 0
6 months | 20 | 1 | 20 | 0.92 | 18
12 months | 15 | 1 | 15 | 0.92 | 14
Sub Total | 35 |  | 35 |  | 32
Record Management by FY2007 and FY2008 Grantee Staff
Events Tracking | 8 | 800 | 6,400 | 0.03 | 192
Person Tracking | 8 | 70 | 560 | 0.1 | 36
Service Use | 8 | 25 | 200 | 0.17 | 34
Arrest History | 8 | 25 | 200 | 0.17 | 34
Sub Total | 32 |  | 7,360 |  | 296
FY2006 Grantees
Interview and Tracking data submission | 8 | 12 | 48 | 0.17 | 8
Overall | 1,095 |  | 1,733 |  | 1,290

CY 2010 Annual Reporting Burden
Data collection activity | Number of respondents | Responses per respondent | Total responses | Average hours per response | Total hour burden
Client Interviews for FY2008 and Anticipated FY2009: Revised Instrument
Baseline (at enrollment) | 1,110 | 1 | 1,110 | 0.95 | 1,105
6 months | 888 | 1 | 888 | 0.92 | 817
12 months | 491 | 1 | 491 | 0.92 | 451
Sub Total | 2,489 |  | 2,489 |  | 2,323
Record Management by FY2008 and Anticipated FY2009 Grantee Staff
Events Tracking | 12 | 800 | 9,600 | 0.03 | 288
Person Tracking | 12 | 80 | 960 | 0.1 | 62
Service Use | 12 | 50 | 600 | 0.17 | 102
Arrest History | 12 | 50 | 600 | 0.17 | 102
Sub Total | 48 |  | 11,760 |  | 554
FY2008 and FY2009 Grantees
Interview and Tracking data submission | 12 | 12 | 48 | 0.17 | 8
Overall Total | 2,549 |  | 14,297 |  | 2,885

CY 2011 Annual Reporting Burden
Data collection activity | Number of respondents | Responses per respondent | Total responses | Average hours per response | Total hour burden
Client Interviews for FY2008 and Anticipated FY2009 and 2010: Revised Instrument
Baseline (at enrollment) | 1,710 | 1 | 1,710 | 0.83 | 1,419
6 months | 1,368 | 1 | 1,368 | 0.92 | 1,259
12 months | 879 | 1 | 879 | 0.92 | 809
Sub Total | 3,957 |  | 3,957 |  | 3,487
Record Management by FY2008 and anticipated FY2009 and FY2010 Grantee Staff
Events Tracking | 18 | 800 | 14,400 | 0.03 | 432
Person Tracking | 18 | 80 | 1,440 | 0.1 | 94
Service Use | 18 | 50 | 900 | 0.17 | 153
Arrest History | 18 | 50 | 900 | 0.17 | 153
Sub Total | 72 |  | 17,640 |  | 832
FY2008 and FY2009 Grantees
Interview and Tracking data submission | 18 | 12 | 48 | 0.17 | 8
Overall Total | 4047 |  | 21,645 |  | 4,327

CY 2012 Annual Reporting Burden
Data collection activity | Number of respondents | Responses per respondent | Total responses | Average hours per response | Total hour burden
Client Interviews for anticipated FY2009 and 2010: Revised Instrument
Baseline (at enrollment) | 1,200 | 1 | 1,200 | 0.83 | 996
6 months | 1,080 | 1 | 1,080 | 0.92 | 994
12 months | 1,084 | 1 | 1,084 | 0.92 | 998
Sub Total | 3,364 |  | 3,364 |  | 2,987
Record Management by anticipated FY2009 and FY2010 Grantee Staff
Events Tracking | 12 | 800 | 9,600 | 0.03 | 288
Person Tracking | 12 | 70 | 840 | 0.1 | 55
Service Use | 12 | 25 | 300 | 0.17 | 51
Arrest History | 12 | 25 | 300 | 0.17 | 51
Sub Total | 48 |  | 11,040 |  | 445
FY2008 and FY2009 Grantees
Interview and Tracking data submission | 18 | 12 | 48 | 0.17 | 8
Overall Total | 3,424 |  | 14,452 |  | 3,440

Send comments to Summer King, SAMHSA Reports Clearance Officer, Room 7-1044, One Choke Cherry Road, Rockville, MD 20857 and e-mail her a copy at summer.king@samhsa.hhs.gov. Written comments should be received within 60 days of this notice.

Dated: April 13, 2009.
Elaine Parry,
Director, Office of Program Services.

[FR Doc. E9-8984 Filed 4-17-09; 8:45 am]

BILLING CODE 4162-20-P